DEPARTMENT OF COMMERCE

International Trade Administration

[A-475-811]

Grain-Oriented Electrical Steel From Italy: Notice of Extension of Time Limit for Final Results of Antidumping Administrative Review

AGENCY: Import Administration, International Trade Administration, Department of Commerce.

ACTION: Notice of extension of time limit for the final results of antidumping duty administrative review.

SUMMARY: The Department of Commerce (the Department) is extending the time limit for the final results of the antidumping duty administrative review of grain-oriented electrical steel (GOES) from Italy. The period of review is August 1, 1998 through July 31, 1999.

EFFECTIVE DATE: October 4, 2000.

FOR FURTHER INFORMATION CONTACT: Maureen McPhillips or Nancy Decker, Office of AD/CVD Enforcement Group III, Import Administration, International Trade Administration, U.S. Department of Commerce, 14th Street and Constitution Avenue, NW, Washington, DC 20230; telephone (202) 482-0193 or (202) 482-0196, respectively.

The Applicable Statute

Unless otherwise indicated, all citations to the Tariff Act of 1930 (the Act), as amended, are references to the provisions effective January 1, 1995, the effective date of the amendments made to the Act by the Uruguay Round Agreements Act. In addition, all citations to the Department's regulations are to the regulations at 19 CFR Part 351 (1999).

Background

On August 31, 1999, AST requested that the Department conduct an administrative review of its exports of grain-oriented electrical steel. The Department initiated this administrative review on October 1, 1999 (64 FR 53318). On September 7, 2000, we published the preliminary results of review in the Federal Register (65 FR 54215).

Extension of Time Limit for Final Results

During this review complex issues have been raised regarding the classification of AST's sales of GOES to the United States. In order to analyze this issue appropriately, the Department sent an additional supplementary questionnaire after the publication of the Preliminary Results. Due to the time constraints placed on the respondent to answer this questionnaire and petitioners to comment on the response, we require an extension. Therefore, because it is not practicable to complete this review within the time limits mandated by section 751(a)(3)(A) of the Act, the Department is extending the time limit for the final results to be 180 days from the date of the publication of the preliminary results. Therefore, our final results are due no later than March 6, 2001. This extension of the time limit is in accordance with section 751(a)(3)(A) of the Act and 19 CFR 351.213(h)(2).

Dated: September 27, 2000.
Joseph A. Spetrini,
Deputy Assistant Secretary, AD/CVD Enforcement Group III.

[FR Doc. 00-25464 Filed 10-3-00; 8:45 am]

BILLING CODE 3510-DS-P